DEPARTMENT OF HOUSING AND URBAN DEVELOPMENT

[Docket No. FR-7028-N-08]

60-Day Notice of Proposed Information Collection: Grant Drawdown Payment Request/Line of Credit Control System (LOCCS)/eLOCCS; OMB Control No.: 2577-0166

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 23, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (L'Enfant Plaza, Room 2206), Washington, DC 20410; telephone 202-402-3374 (this is not a toll-free number). Persons with hearing or speech impairments may access this number via TTY by calling the Federal Relay Service at (800) 877-8339 (this is a toll-free number). Copies of available documents submitted to OMB may be obtained from Ms. Rogers.

SUPPLEMENTARY INFORMATION: This notice informs the public that HUD is seeking approval from OMB for the information collection described in Section A.

A. Overview of Information Collection

Title of Information Collection: Grant Drawdown Payment Request/LOCCS/VRS Voice Activated.

OMB Approval Number: 2577-0166.

Type of Request: Extension of a currently approved collection.

Form Numbers: 50080-CFP; 50080-OFND; 50080-SC; 50080-PHTA; 50080-URP; 50080-FSS; 50080-IHBG; 50080-TIHD.

Description of the need for the information and proposed use: On April 17, 2017, the Grant Drawdown Payment Request/Voice Response System (VRS) was converted to a Business Partner Registration and Secure Systems for both the user and the user's Approving Official. The Secure Systems supports many HUD applications, one of which is Line of Credit Control System (eLOCCS) . The eLOCCS is implementing a Single Sign-On solution under Secure Systems, where Grant recipients will be recognized and authenticated based on a Secure System ID and will no longer separately Sign-in to eLOCCS. Grant recipients use LOCCS system to request funds from HUD by signing into Secure Systems, as they normally do, and select the Line of Credit Control System (eLOCCS) link. Some Grantees (all new or reinstated users who need to access eLOCCS) will need to complete the LOCCS HUD-27054E form, have it notarized, send the original HUD-27054E LOCCS Access Authorization Form (with the original signature and notary seal) via U.S. Mail to the Program Office for review. The LOCCS system will automatically generate an Access Authorization email letting the user know that HUD-27054E has been processed, enabling grantees to access their eLOCCS account. The information collected on the payment voucher will also be used as an internal control measure to ensure the lawful and appropriate disbursement of Federal funds as well as provide a service to program recipients.

Below is a link where the HUD-27054E LOCCS Authorized Form can be accessed: http://portal.hud.gov/hudportal/documents/huddoc?id=27054E.pdf.

Respondents: PHAs, state or local government. Tribes and tribally designated housing entities.

Information collection | Number of respondents | Frequency of responses | Responses per annum | Burden hour per response | Annual burden hours | * Hourly cost per response | Annual cost
Capital Fund 50080-CFP | 3,100 | 12 | 37,200 | .25 | 9,300 | 24.08 | 233,944.00
Operating Fund 50080-OFND | 3,100 | 12 | 37,200 | .25 | 9,300 | 24.08 | 233,944.00
Resident Opportunities and Supportive Services (ROSS) SC 50080-SC | 330 | 12 | 3,960 | .25 | 990 | 24.08 | 23,839.20
Public Housing Technical Assistance 50080-PHTA | 12 | 12 | 144 | .25 | 36 | 24.08 | 866.88
Hope VI 50080-URP | 50 | 12 | 600 | .50 | 300 | 24.08 | 7,224.00
Family Self-Sufficiency 50080-FSS | 700 | 12 | 8,400 | .25 | 2,100 | 24.08 | 50,568.00
Indian Housing Block Grant 50080-IHBG | 361 | 12 | 4,332 | .25 | 1,083 | 24.08 | 26,078.64
Traditional Indian Housing Development 50080-TIHD | 32 | 12 | 384 | .25 | 96 | 24.08 | 2,190.72
Totals | 7,685 |  | 92,220 |  | 23,205 |  | $558,776.40

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Dated: September 18, 2020.
Merrie Nichols-Dixon,
Director, Office of Policy, Programs and Legislative Initiatives.

[FR Doc. 2020-20999 Filed 9-22-20; 8:45 am]

BILLING CODE 4210-67-P